NUCLEAR REGULATORY COMMISSION

[Docket Nos. 50-373 and 50-374; NRC-2021-0070]

Exelon Generation Company, LLC; LaSalle County Station, Units 1 and 2

AGENCY: Nuclear Regulatory Commission.

ACTION: Exemption; issuance.

SUMMARY: The U.S. Nuclear Regulatory Commission (NRC) has issued a temporary exemption in response to a February 20, 2021 request from Exelon Generation Company, LLC (Exelon, the licensee) from requirements regarding pre-access drug and alcohol testing to maintain authorization for individuals assigned work activities necessary for the timely completion of a refueling and maintenance outage at LaSalle County Station, Units 1 and 2 (LSCS).

DATES: The exemption was issued on February 22, 2021.

ADDRESSES: Please refer to Docket ID NRC-2021-0070 when contacting the NRC about the availability of information regarding this document. You may obtain publicly available information related to this document using any of the following methods:

• Federal Rulemaking Website: Go to https://www.regulations.gov and search for Docket ID NRC-2021-0070. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

FOR FURTHER INFORMATION CONTACT: Bhalchandra K. Vaidya, Office of Nuclear Reactor Regulation, U.S. Nuclear Regulatory Commission, Washington, DC 20555-0001; telephone: 301-415-1324, email: Bhalchandra.Vaidya@nrc.gov.

SUPPLEMENTARY INFORMATION:

I. Discussion

By application dated February 20, 2021, as supplemented by letter dated February 21, 2021, the NRC received from Exelon a request for a temporary exemption from certain requirements of part 26 of title 10 of the Code of Federal Regulations (10 CFR), “Fitness for Duty Programs,” for LSCS.

The NRC's regulations at 10 CFR part 26 include the fitness-for-duty (FFD) requirements concerning pre-access testing for granting FFD authorization to an individual who either has never held FFD authorization or whose last period of FFD authorization was terminated favorably and no potentially disqualifying FFD information has been discovered or disclosed that was not previously reviewed and resolved by a licensee under the requirements of this part. Sections 26.65(d) and 26.65(e) of the NRC's regulations describe the requirements for FFD authorization reinstatement after an interruption of more than 30 days and after an interruption of 30 or fewer days, respectively. In particular, 10 CFR 26.65(d)(1)(ii) and 26.65(e)(2)(iii)(B) require the licensee to verify that the drug test results are negative within 5 business days of specimen collection or administratively withdraw FFD authorization until the drug test results are received.

According to the application, during the week of February 15, 2021, severe winter weather caused substantial service disruptions at the FedEx® Express shipping service hub in Memphis, Tennessee. The weather delayed shipments and delivery of drug and alcohol test specimens for approximately 435 outage workers granted temporary access to LSCS. This delay could result in FFD authorization being removed for these individuals and Exelon's inability to timely restore LSCS to the electrical grid to serve the public and the Nation's economic infrastructure. To avoid this possibility, Exelon requested a temporary exemption from 10 CFR 26.65(d)(1)(ii) and 26.65(e)(2)(iii)(B) to allow for extending the 5 business days requirement to 15 business days.

Upon review, the NRC determined that pursuant to 10 CFR 26.9, the requested exemption is authorized by law, will not endanger life or property or the common defense and security, and is otherwise in the public interest. Therefore, the NRC granted the licensee's request to temporarily exempt LSCS from the requirements in 10 CFR 26.65(d)(1)(ii) and 10 CFR 26.65(e)(2)(iii)(B). The exemption was effective upon issuance and remained in effect for the specimen shipments then in transit and any subsequent shipments made through February 26, 2021, to allow time to arrange alternative shipping, if possible.

II. Availability of Documents

The table in this notice provides the facility name, docket numbers, document descriptions, and ADAMS accession numbers related to the issued exemption. Additional details on the issued exemption, including the exemption request submitted by the licensee and the NRC's decision, are provided in the documents listed in the table in this notice. For additional directions on accessing information in ADAMS, see the ADDRESSES section of this document.

LaSalle County Station, Units 1 and 2, Docket Nos. 50-373 and 50-374
Document description | ADAMS accession No.
LaSalle County Station, Units 1 and 2—Request for Exemption from Pre-Access Drug and Alcohol Testing Requirements in 10 CFR 26.65, dated February 20, 2021 | ML21051A006
LaSalle County Station, Units 1 and 2—Response to Request for Additional Information Regarding Request for Exemption from Pre-Access Drug and Alcohol Testing Requirements in 10 CFR 26.65, dated February 21, 2021 | ML21052A001
LaSalle County Station, Units 1 and 2—Approval of Exemption from Certain Requirements of 10 CFR part 26, “Fitness for Duty Programs,” dated February 22, 2021 | ML21053A001

Dated: March 16, 2021.
For the Nuclear Regulatory Commission.
Bhalchandra K. Vaidya,
Project Manager, Plant Licensing Branch III, Division of Operating Reactor Licensing, Office of Nuclear Reactor Regulation.

[FR Doc. 2021-05833 Filed 3-19-21; 8:45 am]

BILLING CODE 7590-01-P